DEPARTMENT OF ENERGY

Federal Energy Regulatory Commission

Combined Notice of Filings #2

Take notice that the Commission received the following electric rate filings:

Docket Numbers: ER10-3246-001; ER11-2044-003; ER11-3876-002; ER10-2605-001.

Applicants: MidAmerican Energy Company, Cordova Energy Company, LLC, PacifiCorp, Yuma Cogeneration Associates.

Description: Supplement to Notice of Change in Status.

Filed Date: 10/07/2011.

Accession Number: 20111007-5046.

Comment Date: 5 p.m. Eastern Time on Friday, October 28, 2011.

Docket Numbers: ER12-70-000.

Applicants: Cleco Power LLC, Cleco Evangeline LLC.

Description: Cleco Power et al. submits joint application for a short-term power purchase agreement.

Filed Date: 10/07/2011.

Accession Number: 20111013-0203.

Comment Date: 5 p.m. Eastern Time on Friday, October 28, 2011.

Docket Numbers: ER12-83-000.

Applicants: San Diego Gas & Electric Company.

Description: San Diego Gas & Electric Company submits tariff filing per 35.13(a)(2)(iii): Errata to SDG&E and Cogentrix Energy E&P Agreement to be effective 10/14/2011.

Filed Date: 10/14/2011.

Accession Number: 20111014-5083.

Comment Date: 5 p.m. Eastern Time on Friday, November 4, 2011.

Docket Numbers: ER12-84-000.

Applicants: California Independent System Operator Corporation.

Description: California Independent System Operator Corporation submits tariff filing per 35.13(a)(2)(iii): 2011-10-14 Transition Agreement with Valley Electric to be effective 12/15/2011.

Filed Date: 10/14/2011.

Accession Number: 20111014-5084.

Comment Date: 5 p.m. Eastern Time on Friday, November 4, 2011.

Docket Numbers: ER12-85-000.

Applicants: Owens Corning Sales, LLC.

Description: Owens Corning Sales, LLC submits tariff filing per 35.12: Owens Corning Rate Schedule FERC No. 1 Baseline Filing to be effective 10/14/2011.

Filed Date: 10/14/2011.

Accession Number: 20111014-5085.

Comment Date: 5 p.m. Eastern Time on Friday, November 4, 2011.

Docket Numbers: ER12-86-000.

Applicants: ISO New England Inc., New England Power Pool Participants Committee.

Description: ISO New England Inc. submits tariff filing per 35.13(a)(2)(iii: Revisions to Financial Assurance Pol. Related to Submittal of Fin. Statements to be effective 11/23/2011.

Filed Date: 10/14/2011.

Accession Number: 20111014-5086.

Comment Date: 5 p.m. Eastern Time on Friday, October 21, 2011.

Docket Numbers: ER12-87-000.

Applicants: PJM Interconnection, L.L.C.

Description: PJM Interconnection, L.L.C. submits tariff filing per 35.13(a)(2)(iii: Queue No. W3-001; Original Service Agreement No. 3075 to be effective 9/19/2011.

Filed Date: 10/14/2011.

Accession Number: 20111014-5087.

Comment Date: 5 p.m. Eastern Time on Friday, November 4, 2011.

Docket Numbers: ER12-88-000.

Applicants: PJM Interconnection, L.L.C.

Description: PJM Interconnection, L.L.C. submits tariff filing per 35.13(a)(2)(iii: Queue No. W3-171; Original Service Agreement No. 3079 to be effective 9/19/2011.

Filed Date: 10/14/2011.

Accession Number: 20111014-5115.

Comment Date: 5 p.m. Eastern Time on Friday, November 4, 2011.

Docket Numbers: ER12-89-000.

Applicants: New York Independent System Operator, Inc.

Description: New York Independent System Operator, Inc. submits tariff filing per 35.13(a)(2)(iii: NYISO filing of revised Operating Cost Allocations to be effective 1/1/2012.

Filed Date: 10/14/2011.

Accession Number: 20111014-5116.

Comment Date: 5 p.m. Eastern Time on Friday, November 4, 2011.

Docket Numbers: ER12-90-000.

Applicants: Nordic Energy Services.

Description: Nordic Energy Services submits tariff filing per 35.1: FERC Electric MBR Baseline Tariff Filing to be effective 10/14/2011.

Filed Date: 10/14/2011.

Accession Number: 20111014-5136.

Comment Date: 5 p.m. Eastern Time on Friday, November 4, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2011.
Nathaniel J. Davis, Sr.,
Deputy Secretary.

[FR Doc. 2011-27316 Filed 10-21-11; 8:45 am]

BILLING CODE 6717-01-P